DEPARTMENT OF THE TREASURY

United States Mint

Notification of United States Mint 2009 Braille Education Set Pricing

ACTION: Notice.

SUMMARY: The United States Mint is announcing the price of the United States Mint 2009 Braille Education Set.

Public Law 109-247, the Louis Braille Bicentennial-Braille Literacy Commemorative Coin Act, authorizes the United States Mint to mint and issue 2009 Louis Braille Bicentennial Silver Dollars. In addition to these commemorative coins, the United States Mint is offering a limited edition collectible product capturing the life and legacy of Louis Braille and the importance the Braille system plays in the literacy and independence of blind people. This product will consist of a Louis Braille Bicentennial Uncirculated Silver Dollar presented in a folder designed to highlight the life of Louis Braille.

The United States Mint 2009 Braille Education Set will be offered for sale on October 8, 2009, at a price of $44.95.

FOR FURTHER INFORMATION CONTACT: B.B. Craig, Associate Director for Sales and Marketing, United States Mint, 801 Ninth Street, NW., Washington, DC 20220; or call 202-354-7500.

Authority: 31 U.S.C. 5111, 5112 & 9701.

Dated: September 23, 2009.
Edmund C. Moy,
Director, United States Mint.

[FR Doc. E9-23382 Filed 9-28-09; 8:45 am]

BILLING CODE P